NUCLEAR REGULATORY COMMISSION

[Project No. 753; NRC-2010-0170]

Proposed Models for Plant-Specific Adoption of Technical Specifications Task Force Traveler TSTF-500, Revision 2, “DC Electrical Rewrite—Update to TSTF-360”

AGENCY: Nuclear Regulatory Commission.

ACTION: Notice of Availability; correction.

SUMMARY: The U.S. Nuclear Regulatory Commission (NRC) is correcting a notice appearing in the Federal Register on September 1, 2011 (76 FR 54510), that announced the availability of the model application (with model no significant hazards consideration determination) and model safety evaluation (SE) (Agencywide Documents Access and Management System (ADAMS) Accession No. ML111751792) for plant-specific adoption of Technical Specifications Task Force (TSTF) Traveler TSTF-500, Revision 2, “DC Electrical Rewrite—Update to TSTF-360” (ADAMS Accession No. ML092670242).

The original Notice of Availability (NOA) published in the Federal Register on September 1, 2011 (76 FR 54510), mistakenly stated that the TSTF-500 was available for adoption under the Consolidated Line Item Improvement Process (CLIIP). TSTF-500 is available for adoption, but not under the CLIIP. No other information contained in the original NOA has changed.

FOR FURTHER INFORMATION CONTACT: Ms. Michelle C. Honcharik, Senior Project Manager, Licensing Processes Branch, Mail Stop: O-12D20, Division of Policy and Rulemaking, Office of Nuclear Reactor Regulation, U.S. Nuclear Regulatory Commission, Washington, DC, 20555-0001; telephone (301) 415-1774 or email at michelle.honcharik@nrc.gov. For technical questions, please contact Mr. Gerald Waig, Senior Reactor Systems Engineer, Technical Specifications Branch, Mail Stop: O-7 C2A, Division of Inspection and Regional Support, Office of Nuclear Reactor Regulation, U.S. Nuclear Regulatory Commission, Washington, DC, 20555-0001; telephone (301) 415-2260 or email at gerald.waig@nrc.gov.

SUPPLEMENTARY INFORMATION: On September 1, 2011 (76 FR 54510), the NRC published an NOA announcing the availability of the model application and model SE for plant-specific adoption of TSTF Traveler TSTF-500, Revision 2. In that publication on page 54510 first column under the section titled SUMMARY first paragraph, delete “As part of the consolidated line item improvement process (CLIIP).” On page 54510 second column under the section titled SUMMARY last sentence of first paragraph and third column under the section titled SUPPLEMENTARY INFORMATION first sentence of second paragraph delete “CLIIP.” On page 54510 third column under the section SUPPLEMENTARY INFORMATION second sentence of second paragraph replace “CLIIP” with “Traveler.”

Dated at Rockville, Maryland, this 25th day of October 2011.
For the Nuclear Regulatory Commission.
John R. Jolicoeur,
Chief, Licensing Processes Branch, Division of Policy and Rulemaking, Office of Nuclear Reactor Regulation.

[FR Doc. 2011-28837 Filed 11-7-11; 8:45 am]

BILLING CODE 7590-01-P